DEPARTMENT OF HEALTH AND HUMAN SERVICES

Health Resources and Services Administration

White House Initiative on Asian Americans and Pacific Islanders, President's Advisory Commission; Notice of Meeting; Correction

In Federal Register Document 00-11449 appearing on page 26219 in the issue for Friday, May 5, 2000, the following corrections have been made to the Notice of Meeting for the President's Advisory Commission. The room number for the meeting on May 17, 2000 has been changed from Room 800 of the Hubert H. Humphrey Building to the Stonehenge Room of the Hubert H. Humphrey Building. A time change has taken place for the meeting on May 19, 2000. The meeting will take place from 9:00 a.m.-1:00 p.m. Those are the only changes to be noted. All other information is correct as it appears.

An additional meeting has been scheduled and will take place on Thursday, May 18, 2000. This meeting will be open to the public. The meeting will be held on May 18, 2000 from 2:00 p.m.-5:00 p.m. in Room 800 of the Hubert H. Humphrey Building located at 200 Independence Avenue, SW, Washington, DC 20201.

Requests to address the Commission should be made in writing and should include the name, address, telephone number and business or professional affiliation of the interested party. Individuals or groups addressing similar issues are encouraged to combine comments and present through a single representative. The allocation of time for remarks may be adjusted to accommodate the level of expressed interest. Written requests should be faxed to (301) 443-0259. Anyone who has interest in attending any portion of the meetings or who requires additional information about the Commission should contact: Mr. Tyson Nakashima, Office of the White House Initiative on Asian Americans and Pacific Islanders, Parklawn Building, Room 10-42, 5600 Fishers Lane, Rockville, MD 20857, Telephone (301) 443-2492. Anyone who requires special assistance, such as sign language interpretation or other reasonable accommodations, should contact Mr. Nakashima no later than Tuesday, May 16, 2000.

Dated: May 11, 2000.
Jane M. Harrison,
Director, Division of Policy Review and Coordination.

[FR Doc. 00-12445 Filed 5-17-00; 8:45 am]

BILLING CODE 4160-15-P